DEPARTMENT OF JUSTICE

[OMB Number 1117-0NEW]

Agency Information Collection Activities; Proposed eCollection eComments Requested; New Collection; Customer Service Survey; Training Survey; Senior Leadership Survey

AGENCY: Drug Enforcement Administration, Department of Justice.

ACTION: 60-Day notice.

SUMMARY: The Drug Enforcement Administration, Department of Justice (DOJ), will be submitting the following information collection request to the Office of Management and Budget (OMB) for review and approval in accordance with the Paperwork Reduction Act of 1995.

DATES: Comments are encouraged and will be accepted for 60 days until February 20, 2024.

FOR FURTHER INFORMATION CONTACT: If you have additional comments especially on the estimated public burden or associated response time, suggestions, or need a copy of the proposed information collection instrument with instructions or additional information, please contact Elizabeth Pascual, Office of Forensic Sciences, Drug Enforcement Administration, 8701 Morrissette Drive, Springfield, VA 22152, telephone 571-776-2441, Elizabeth.R.Pascual@dea.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Raw survey data is collected, monitored, and analyzed by one primary and one ancillary program manager within the Office of Forensic Sciences, the headquarter component of the DEA laboratory system. Information generated from the three surveys is used by DEA supervisors, managers, senior executives, and scientists to improve the laboratory system work product.

Overview of This Information Collection

1. Type of Information Collection: New collection.

2. The Title of the Form/Collection: Customer Service Survey; Training Survey; Senior Leadership Survey.

3. The agency form number, if any, and the applicable component of the Department sponsoring the collection: There is not a form number for these collections. They are online surveys. The applicable within the Department of Justice is the Drug Enforcement Administration, Office of Forensic Sciences.

4. Affected public who will be asked or required to respond, as well as the obligation to respond: Affected Public: Laboratories (Private Sector—businesses or not for or not for profit institutions). The obligation to respond is voluntary.

5. An estimate of the total number of respondents and the amount of time estimated for an average respondent to respond: The total or estimated number of respondents for this collection is 627 and it is estimated that it will take nine minutes to complete the survey.

6. An estimate of the total annual burden (in hours) associated with the collection: The total annual burden hours for this collection is 94 burden hours.

7. An estimate of the total annual cost burden associated with the collection, if applicable: $0.

Total Burden Hours
Activity | Number of respondents | Frequency | Total annual responses | Time per response (minutes) | Total annual burden (hours)
Customer Service Survey | 300 | 1/annually | 300 | 9 | 45
Training Survey | 258 | 1/annually | 258 | 9 | 39
Senior Level Leadership Survey | 69 | 1/annually | 69 | 9 | 10
Unduplicated Totals | 627 |  | 627 |  | 94

If additional information is required contact: Darwin Arceo, Department Clearance Officer, United States Department of Justice, Justice Management Division, Policy and Planning Staff, Two Constitution Square, 145 N Street NE, 4W-218, Washington, DC.

Dated: December 19, 2023.
Darwin Arceo,
Department Clearance Officer for PRA, U.S. Department of Justice.

[FR Doc. 2023-28284 Filed 12-21-23; 8:45 am]

BILLING CODE 4410-09-P